DEPARTMENT OF AGRICULTURE

Office of the Secretary

Notice of Request for Extension or Renewal of a Currently Approved Information Collection

AGENCY: Office of Assistant Secretary for Civil Rights.

ACTION: Notice and request for comments.

SUMMARY: In accordance with the Paperwork Reduction Act of 1995 (44 U.S.C. Chapter 35), this notice announces the intention of the Office of the Assistant Secretary for Civil Rights to request a renewal to an approved information collection for race, ethnicity, and gender along with comments.

DATES: Comments on this notice must be received by October 13, 2020 to be assured of consideration.

ADDRESSES: The Office of the Assistant Secretary for Civil Rights invites interested persons to submit comments on this notice. Comments may be submitted by one of the following methods:

Federal eRulemaking Portal: This website provides the ability to type short comments directly into the comment field on this web page or attach a file for lengthier comments. Go to http://www.regulations.gov. Follow the on-line instructions at that site for submitting comments.

Mail, including CD-ROMs, etc.: Send to U.S. Department of Agriculture, Office of the Assistant Secretary for Civil Rights, 1400 Independence Avenue SW, Mailstop 9407, Washington, DC 20250.

Hand- or courier-delivered submittals: Deliver to 355 E Street SW, Room 7-205, Washington, DC 20024.

Instructions: All items submitted by mail or electronic mail must include the Agency name, Office of the Assistant Secretary for Civil Rights. Comments received in response to this docket will be made available for public inspection and posted without change, including any personal information, to http://www.regulations.gov.

Docket: For access to background documents or comments received, go to the Office of the Assistant Secretary for Civil Rights at 1400 Independence Avenue SW, 507-A, Washington, DC 20250 between 8:00 a.m. and 4:30 p.m., Monday through Friday.

FOR FURTHER INFORMATION CONTACT: Denise A. Banks, Office of the Assistant Secretary for Civil Rights, U.S. Department of Agriculture, 1400 Independence Avenue SW, Washington, DC 20250, (202) 401-7654 and fax number (202) 690-1782.

SUPPLEMENTARY INFORMATION: In accordance with the Paperwork Reduction Act of 1995 (44 U.S.C. Chapter 35), this notice announces the intention of the Office of the Assistant Secretary for Civil Rights to request approval for an existing collection in use with an OMB control number.

Title: Race, Ethnicity and Gender Data Collection.

OMB Number: OMB No. 0503-0019.

Expiration Date of Approval: October 31, 2020.

Type of Request: Extension and renewal of a currently approved information collection.

Abstract: This data collection is necessary to implement Sections 14006 and 14007 of the Food, Conservation, and Energy Act of 2008, 7 U.S.C. 8701 (hereafter referred to as the 2008 Farm Bill). Section 14006 of the 2008 Farm Bill establishes a requirement for the Department of Agriculture (USDA) to annually compile application and participation rate data regarding socially disadvantaged farmers or ranchers by computing for each program of the USDA that serves agriculture producers and landowners (a) raw numbers of applicants and participants by race, ethnicity, and gender subject to appropriate privacy protections, as determined by the Secretary; and (b) the application and participation rate, by race, ethnicity and gender, as a percentage of the total participation rate of all agricultural producers and landowners for each county and State in the United States. Pursuant to the authority in section 14006, the agencies of USDA are to collect the data and transmit it to the Secretary of Agriculture. Section 14007 requires USDA to use the data collected in the conduct of oversight and evaluation of civil rights compliance.

Estimate of Burden: Public reporting burden for this collection of information is estimated to average 2 minutes per response.

Respondents: Producers, applicants.

Estimated Number of Respondents: 1,913,798.

Estimated Number of Responses per Respondent: 1.

Estimated Total Annual Burden on Respondents: 63,793.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All comments received will be available for public inspection during regular business hours at the same address.

All responses to this notice will be summarized and included in the request for Office of Management and Budget approval. All comments will become a matter of public record.

Devon Westhill,
Deputy Assistant Secretary for Civil Rights.

[FR Doc. 2020-17831 Filed 8-13-20; 8:45 am]

BILLING CODE P